DEPARTMENT OF AGRICULTURE

Federal Crop Insurance Corporation

7 CFR Part 457

[Docket ID FCIC-23-0004]

RIN 0563-AC83

Actual Production History (APH) and Other Crop Insurance Transparency; Corrections

AGENCY: Federal Crop Insurance Corporation, U.S. Department of Agriculture (USDA).

ACTION: Correcting amendment.

SUMMARY: On June 29, 2023, the Federal Crop Insurance Corporation revised the Area Risk Protection Insurance (ARPI) Regulations, Common Crop Insurance Policy (CCIP) Basic Provisions, and the General Administrative Regulations. In reviewing the changes made, FCIC found some incorrect references and conflicting provisions that were not updated to accurately incorporate the changes, and a grammatical error was included in the amendatory instructions. This document makes the corrections.

DATES: Effective August 30, 2023.

FOR FURTHER INFORMATION CONTACT: Francie Tolle; telephone (816) 926-7730; email francie.tolle@usda.gov. Persons with disabilities who require alternative means of communication should contact the USDA Target Center at (202) 720-2600 or 844-433-2774.

SUPPLEMENTARY INFORMATION:

Background

The Common Crop Insurance Regulations in 7 CFR part 457 were revised by a final rule with request for comments published in the Federal Register on June 29, 2023 (88 FR 42015-42026). Changes were made in that rule to the Area Risk Protection Insurance (ARPI) Basic Provisions (7 CFR part 407), Common Crop Insurance Policy (CCIP) Basic Provisions (7 CFR 457.8), and the General Administrative Regulations in subpart G of part 400 (Actual Production History) (7 CFR 400.51 through 400.56). The rule moved existing regulatory language from 7 CFR part 400 (subpart G) into the CCIP Basic Provisions and obsoleted subpart G. Since the publication of the rule, FCIC has identified several references to subpart G that need correction to refer to CCIP Basic Provisions. Additionally, the rule revised production reporting requirements for producers to report “current” year production rather than “previous” year production. Since the publication of the rule, FCIC has found similar references to “previous” year production in various Crop Provisions that need to be corrected to “current” year for consistency with changes made in the rule. Lastly, the final rule allowed for enterprise units and whole farm units to be identified by the actuarial documents. FCIC has identified conflicting provisions that need to be updated. This document makes the corrections in the following Provisions:

• Common Crop Insurance Policy Basic Provisions (7 CFR 457.8);

• Texas Citrus Fruit Crop Insurance Provisions (7 CFR 457.119);

• Arizona-California Citrus Crop Insurance Provisions (7 CFR 457.121);

• Macadamia Nut Crop Insurance Provisions (7 CFR 457.131); and

• California Avocado Crop Insurance Provisions (7 CFR 457.175).

List of Subjects in 7 CFR Part 457

Acreage allotments, Crop insurance, Reporting and recordkeeping requirements.

Accordingly, 7 CFR part 457 is corrected by making the following amendments:

PART 457—COMMON CROP INSURANCE REGULATIONS

1. The authority citation for part 457 continues to read as follows:

Authority: 7 U.S.C. 1506(l), 1506(o).

2. In § 457.8 in the “Common Crop Insurance Policy”:

a. In section 3, in paragraph (f)(1) introductory text, remove the words “specified in the Special Provisions” and add “specified in the Crop Provisions or Special Provisions” in their place;

b. In section 21, in paragraph (f)(1), remove the words “section 3(f)(1) and 7 CFR part 400, subpart G” and add “section 3(f)(1) and section 5” in their place;

c. In section 22, in paragraph (a) introductory text, remove the words “(For example” and add “(for example” in their place; and

d. In section 34:

i. Revise paragraph (a)(2)(iii);

ii. In paragraph (a)(3)(i)(A)(1), remove the words “Special Provisions” and add “actuarial documents” in their place; and

iii. In paragraph (a)(3)(v) introductory text, remove the words “, even though you elected revenue protection for all your crops”.

The revision reads as follows:

§ 457.8 The application and policy.

* * * * *

Common Crop Insurance Policy

* * * * *

34. Units

(a) * * *

(2) * * *

(iii) Enterprise units must be allowed by the actuarial documents;

* * * * *

3. In § 457.119 in the “Texas Citrus Fruit Crop Provisions” in section 3, revise paragraphs (f) and (g) to read as follows:

§ 457.119 Texas citrus fruit crop insurance provisions.

* * * * *

3. Insurance Guarantees, Coverage Levels, and Prices

* * * * *

(f) Your approved yield will be determined in accordance with sections 3 and 5 of the Basic Provisions.

(g) Instead of reporting your production for the current crop year, as required by section 3(f)(1) of the Basic Provisions, there is a lag year and you are required to report production from two crop years ago by the production reporting date, e.g., 2023 crop year production must be reported by the production reporting date for the 2025 crop year.

* * * * *

4. In § 457.121 in the “Arizona-California Citrus Crop Provisions” in section 3 revise paragraph (b) to read as follows:

§ 457.121 Arizona-California citrus crop insurance provisions.

* * * * *

3. Insurance Guarantees, Coverage Levels, and Prices

* * * * *

(b) Instead of reporting your production of marketable fresh fruit for the current crop year, as required by section 3(f)(1) of the Basic Provisions, there is a lag year and you are required to report production from two crop years ago by the production reporting date, e.g., 2023 crop year production must be reported by the production reporting date for the 2025 crop year.

* * * * *

5. In § 457.131 in the “Macadamia Nut Crop Provisions”, section 3:

i. In paragraph (c), remove the words “The yield used to compute your production guarantee will be determined in accordance with Actual Production History (APH) regulations, 7 CFR part 400, subpart G, and applicable policy provisions” and add “Your approved yield will be determined in accordance with sections 3 and 5 of the Basic Provisions” in their place; and

ii. Revise paragraph (d).

The revision reads as follows:

§ 457.131 Macadamia nut crop insurance provisions.

* * * * *

3. Insurance Guarantees, Coverage Levels, and Prices

* * * * *

(d) Instead of reporting your production for the current crop year, as required by section 3(f)(1) of the Basic Provisions, there is a lag year and you are required to report production from two crop years ago by the production reporting date, e.g., 2023 crop year production must be reported by the production reporting date for the 2025 crop year.

* * * * *

6. In § 457.175, in the “California Avocado Crop Provisions”, in section 3, revise paragraph (e) and the last two sentences of paragraph (f)(2) to read as follows:

§ 457.175 California avocado crop insurance provisions.

* * * * *

3. Insurance Guarantees, Coverage Levels, and Prices

* * * * *

(e) Instead of reporting your production for the current crop year as required by section 3(f)(1) of the Basic Provisions, you are required to report the production for the crop year that ended on the October 31 immediately preceding the cancellation date, e.g., 2023 crop year production must be reported by the production reporting date for the 2025 crop year.

(f) * * *

(2) * * * The percentages will be those described in sections 3 and 5 of the Basic Provisions. All other provisions of sections 3 and 5 of the Basic Provisions apply.

* * * * *

Marcia Bunger,
Manager, Federal Crop Insurance Corporation.

[FR Doc. 2023-18689 Filed 8-29-23; 8:45 am]

BILLING CODE 3410-08-P